DEPARTMENT OF AGRICULTURE

Office of the Secretary

Notice of Solicitation of Members to the National Agricultural Research, Extension, Education, and Economics Advisory Board

AGENCY: Research, Education, and Economics, USDA.

ACTION: Solicitation of membership.

SUMMARY: The United States Department of Agriculture announces solicitation for nominations to fill 8 vacancies on the National Agricultural Research, Extension, Education, and Economics Advisory Board. The notice was published in the Federal Register on June 23, 2014.

FOR FURTHER INFORMATION CONTACT: Michele Esch, 202-720-3684 or 202-720-8408.

Correction

In the Federal Register of June 23, 2014 in FR Doc. 2014-14578, on page 35512, in the SUPPLEMENTARY INFORMATION section, Para 3 read as follows:

Nominations are open to all individuals without regard to race, color, religion, sex, national origin, age, mental or physical handicap, marital status, or sexual orientation. To ensure the recommendation of the Advisory Board take into account the needs of the diverse groups served by the USDA, membership shall include, to the extent practicable, individuals with demonstrated ability to represent the needs of all racial and ethnic groups, women and men, and persons with disabilities.

Yvette Anderson,
Federal Register Liaison Officer, for ARS, ERS, and NASS.

[FR Doc. 2014-15670 Filed 7-2-14; 8:45 am]

BILLING CODE 3410-03-P